FEDERAL RETIREMENT THRIFT INVESTMENT BOARD

Sunshine Act Notice

Time and Date: 9 a.m. (EDT), July 18, 2005.

Place: 4th Floor Conference Room, 1250 H Street, NW., Washington, DC.

Status: Parts will be open to the public and parts closed to the public.

Matters to be Considered:

Parts Open to the Public

1. Approval of the minutes of the June 20, 2005, Board member meeting.

2. Thrift Savings Plan activity report by the Executive Director.

3. Quarterly Investment Policy report.

Parts Closed to the Public

4. Procurement.

5. Personnel.

Contact Person for More Information: Thomas J. Trabucco, Director, Office of External Affairs, (202) 942-1640.

Dated: July 8, 2005.
Elizabeth S. Woodruff,
Secretary to the Board, Federal Retirement Thrift Investment Board.

[FR Doc. 05-13832 Filed 7-8-05; 3:29 pm]

BILLING CODE 6760-01-P